DEPARTMENT OF TRANSPORTATION

Federal Aviation Administration

RTCA, Inc.; RTCA Special Committee 193/EUROCAE Working Group 44

Pursuant to section 10(a)(2) of the Federal Advisory Committee Act (Pub. L. 92-463, 5 U.S.C., Appendix 2), notice is hereby given for an RTCA Special Committee 193/EUROCAE Working Group 44 meeting to be held April 2-6, 2001, starting at 9 a.m. The meeting will be held at EUROCONTROL, Rue de la Fusee, 96, B-1130, Brussels, Belgium.

The agenda will include: April 2: Plenary Session: (1) Welcome and Introductory Remarks; (2) Review Agenda; (3) Review Previous Meeting Minutes; (4) Presentations; (5) Sub-group (SG)-2 (Terrain and Obstacle Databases); (a) Review Previous Meeting Minutes; (b) Review Actions of Previous Meeting; (c) Presentations; (d) Review Draft Document; April 3: (6) Continue Sub-group (SG)-2; April 4: (7) Sub-group (SG)-3 (Airport Databases); (e) Review Previous Meeting Minutes; (f) Review Actions of Previous Meeting; (g) Presentations; (h) Review Draft Document; April 5: (8) Continued SG-3 Discussion; April 6: Closing Plenary Session: (9) Review Summary of SG-2 and SG-3 (10) Assign Task; (11) Other Business; (12) Date and Location of Next Meeting; (13) Closing.

Attendance is open to the interested public but limited to space availability. With the approval of the co-chairmen, members of the public may present oral statements at the meeting. Persons wishing to present statements or obtain information should contact the RTCA, Inc., at (202) 833-9339 (phone), (202) 833-9434 (facsimile).

Issued in Washington, DC on March 20, 2001.
Janice L. Peters,
Designated Official.

[FR Doc. 01-7422 Filed 3-23-01; 8:45 am]

BILLING CODE 4910-13-M